DEPARTMENT OF TRANSPORTATION

Federal Aviation Administration

14 CFR Part 97

[Docket No. 31604; Amdt. No. 4165]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 23, 2025. The compliance date for each SIAP, associated Takeoff Minimums, and ODP is specified in the amendatory provisions.

The incorporation by reference of certain publications listed in the regulations is approved by the Director of the Federal Register as of May 23, 2025.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, visit www.archives.gov/federal-register/cfr/ibr-locations or email fr.inspection@nara.gov.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Romana B. Wolf, Manager, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR 97.20. The applicable FAA Forms are 8260-3, 8260-4, 8260-5, 8260-15A, 8260-15B, when required by an entry on 8260-15A, and 8260-15C.

The large number of SIAPs, Takeoff Minimums and ODPs, their complex nature, and the need for a special format make publication in the Federal Register expensive and impractical. Further, pilots do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Air Missions (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air traffic control, Airports, Incorporation by reference, Navigation (air).

Issued in Washington, DC, on May 9, 2025.
Romana B. Wolf,
Manager, Flight Procedures and Airspace Group, Flight Technologies and Procedures Division, Office of Safety Standards, Flight Standards Service, Aviation Safety, Federal Aviation Administration.

Adoption of the Amendment

Accordingly, pursuant to the authority delegated to me, 14 CFR part 97 is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 12 June 2025

Camden, AL, 61A, RNAV (GPS) RWY 18, Orig-A

Arkadelphia, AR, ADF, Takeoff Minimums and Obstacle DP, Amdt 3A

Ash Flat, AR, CVK, Takeoff Minimums and Obstacle DP, Orig-A

Batesville, AR, BVX, LOC RWY 8, Amdt 2

Batesville, AR, BVX, RNAV (GPS) RWY 8, Amdt 2

Melbourne, AR, 42A, RNAV (GPS) RWY 3, Amdt 3

Melbourne, AR, 42A, RNAV (GPS) RWY 21, Amdt 3

Monticello, AR, LLQ, Takeoff Minimums and Obstacle DP, Orig-B

Oakland, CA, OAK, ILS OR LOC RWY 28R, Amdt 38

Oakland, CA, OAK, ILS OR LOC RWY 30, ILS RWY 30 (SA CAT I), ILS RWY 30 (CAT II), ILS RWY 30 (CAT III), Amdt 32

Oakland, CA, OAK, RNAV (GPS) Y RWY 28L, Amdt 5

Oakland, CA, OAK, RNAV (GPS) Y RWY 28R, Amdt 4

Oakland, CA, OAK, RNAV (GPS) Y RWY 30, Amdt 6

Oakland, CA, OAK, RNAV (RNP) Z RWY 28L, Amdt 3

Oakland, CA, OAK, RNAV (RNP) Z RWY 28R, Amdt 3

Oakland, CA, OAK, RNAV (RNP) Z RWY 30, Amdt 4

Montrose, CO, MTJ, ILS OR LOC RWY 17, Amdt 3A

Montrose, CO, MTJ, RNAV (GPS) RWY 13, Amdt 1A

Montrose, CO, MTJ, RNAV (GPS) RWY 17, Amdt 1A

Bridgeport, CT, BDR, ILS OR LOC RWY 6, Amdt 11

Bridgeport, CT, BDR, RNAV (GPS) RWY 6, Amdt 2

Bridgeport, CT, BDR, RNAV (GPS) RWY 24, Amdt 2

Fort Pierce, FL, FPR, ILS OR LOC RWY 10R, Amdt 5

Fort Pierce, FL, FPR, RNAV (GPS) RWY 10R, Amdt 3

Fort Pierce, FL, FPR, RNAV (GPS) RWY 28L, Amdt 1D

Immokalee, FL, IMM, Takeoff Minimums and Obstacle DP, Amdt 2B

Lake City, FL, LCQ, Takeoff Minimums and Obstacle DP, Amdt 1A

Miami, FL, OPF, ILS OR LOC RWY 9L, Amdt 6

Miami, FL, OPF, RNAV (GPS) RWY 9L, Amdt 1

Okeechobee, FL, OBE, RNAV (GPS) RWY 32, Amdt 1

Pompano Beach, FL, PMP, RNAV (GPS) RWY 15, Amdt 1A

Pompano Beach, FL, PMP, RNAV (GPS) RWY 33, Amdt 1B

St Petersburg-Clearwater, FL, PIE, VOR RWY 36, Orig-A

Ellijay, GA, 49A, RNAV (GPS) RWY 21, Orig-A

Lawrenceville, GA, LZU, ILS OR LOC RWY 25, Amdt 4A

Lawrenceville, GA, LZU, RNAV (GPS) RWY 25, Amdt 1A

Rome, GA, RMG, RNAV (GPS) RWY 19, Amdt 3

Rome, GA, RMG, Takeoff Minimums and Obstacle DP, Amdt 6

Fort Madison, IA, FSW, RNAV (GPS) RWY 17, Amdt 1C

Fort Madison, IA, FSW, RNAV (GPS) RWY 35, Amdt 1A

Fort Madison, IA, FSW, VOR-A, Amdt 7C

Spencer, IA, SPW, Takeoff Minimums and Obstacle DP, Orig-A

Canton, IL, CTK, RNAV (GPS) RWY 18, Amdt 1D

Canton, IL, CTK, RNAV (GPS) RWY 36, Amdt 1E

Canton, IL, CTK, VOR-A, Amdt 9

Chicago/Lake in the Hills, IL, 3CK, RNAV (GPS) RWY 8, Amdt 2

Chicago/Romeoville, IL, LOT, RNAV (GPS) RWY 27, Amdt 1

Chicago, IL, MDW, ILS OR LOC RWY 4R, Amdt 2A

Chicago, IL, MDW, ILS OR LOC RWY 13C, Amdt 1, CANCELED

Chicago, IL, MDW, ILS OR LOC RWY 13L, Orig

Chicago, IL, MDW, ILS OR LOC RWY 31C, Amdt 3A, CANCELED

Chicago, IL, MDW, ILS OR LOC RWY 31R, Orig

Chicago, IL, MDW, RNAV (GPS) RWY 4L, Amdt 1A

Chicago, IL, IGQ, RNAV (GPS) RWY 9, Amdt 1

Chicago, IL, MDW, RNAV (GPS) RWY 13L, Orig-E, CANCELED

Chicago, IL, MDW, RNAV (GPS) RWY 31R, Amdt 1, CANCELED

Chicago, IL, MDW, RNAV (GPS) Z RWY 4R, Amdt 4A

Chicago, IL, MDW, RNAV (GPS) Z RWY 13C, Amdt 3, CANCELED

Chicago, IL, MDW, RNAV (GPS) Z RWY 13L, Orig

Chicago, IL, MDW, RNAV (GPS) Z RWY 31C, Amdt 4A, CANCELED

Chicago, IL, MDW, RNAV (GPS) Z RWY 31R, Orig

Chicago, IL, MDW, RNAV (RNP) Y RWY 13C, Amdt 3, CANCELED

Chicago, IL, MDW, RNAV (RNP) Y RWY 13L, Orig

Chicago, IL, MDW, RNAV (RNP) Y RWY 31C, Amdt 2, CANCELED

Chicago, IL, MDW, RNAV (RNP) Y RWY 31R, Orig

Chicago, IL, MDW, Takeoff Minimums and Obstacle DP, Amdt 13

Lacon, IL, C75, Takeoff Minimums and Obstacle DP, Amdt 3

Morris, IL, C09, RNAV (GPS) RWY 18, Amdt 2

Elkhart, IN, EKM, ILS OR LOC RWY 27, Amdt 3

Elkhart, IN, EKM, RNAV (GPS) RWY 9, Amdt 1

Elkhart, IN, EKM, RNAV (GPS) RWY 27, Amdt 1

Elkhart, IN, EKM, VOR RWY 9, Amdt 7

Fort Wayne, IN, FWA, ILS OR LOC RWY 5, ILS RWY 5 (CAT II), Amdt 15C

Fort Wayne, IN, FWA, ILS OR LOC RWY 32, Amdt 31B

Goshen, IN, GSH, ILS OR LOC RWY 27, Amdt 2

Goshen, IN, GSH, RNAV (GPS) RWY 9, Amdt 1

Goshen, IN, GSH, RNAV (GPS) RWY 27, Amdt 1

Goshen, IN, GSH, Takeoff Minimums and Obstacle DP, Orig-B

Goshen, IN, GSH, VOR RWY 9, Amdt 12D, CANCELED

Kendallville, IN, C62, RNAV (GPS) RWY 10, Orig-C

Kendallville, IN, C62, RNAV (GPS) RWY 28, Amdt 1C

Kendallville, IN, C62, Takeoff Minimums and Obstacle DP, Amdt 2A

South Bend, IN, SBN, ILS OR LOC RWY 9R, Amdt 11

South Bend, IN, SBN, ILS OR LOC RWY 27L, ILS RWY 27L (SA CAT I), ILS RWY 27L (SA CAT II), Amdt 37

South Bend, IN, SBN, RNAV (GPS) RWY 27L, Orig-E

South Bend, IN, SBN, RNAV (GPS) RWY 27R, Amdt 1C

South Bend, IN, SBN, RNAV (GPS) RWY 36, Amdt 1E

Kingman, KS, 9K8, RNAV (GPS) RWY 36, Amdt 2

Lake Charles, LA, LCH, RNAV (GPS) RWY 15, Amdt 1D

Lake Charles, LA, LCH, RNAV (GPS) RWY 33, Amdt 2D

Beverly, MA, BVY, LOC RWY 16, Amdt 8, CANCELED

Lawrence, MA, LWM, ILS OR LOC RWY 5, Amdt 6B

Lawrence, MA, LWM, RNAV (GPS) RWY 5, Amdt 2A

Lawrence, MA, LWM, RNAV (GPS) RWY 14, Orig-A

Lawrence, MA, LWM, RNAV (GPS) RWY 23, Amdt 2A

Mansfield, MA, 1B9, COPTER RNAV (GPS) Y RWY 14, Amdt 1

Mansfield, MA, 1B9, RNAV (GPS) RWY 32, Amdt 2

Mansfield, MA, 1B9, RNAV (GPS) Z RWY 14, Amdt 1

College Park, MD, CGS, Takeoff Minimums and Obstacle DP, Amdt 5

Crisfield, MD, W41, RNAV (GPS)-B, Amdt 1

Ocean City, MD, OXB, LOC RWY 32, Orig-A

Ocean City, MD, OXB, RNAV (GPS) RWY 2, Amdt 1

Ocean City, MD, OXB, VOR-A, Amdt 3B, CANCELED

Beaver Island, MI, SJX, RNAV (GPS) RWY 27, Amdt 1

Caro, MI, CFS, RNAV (GPS) RWY 6, Amdt 2C

Caro, MI, CFS, RNAV (GPS) RWY 24, Amdt 2B

Niles, MI, 3TR, VOR-A, Amdt 1

Pinecreek, MN, 48Y, RNAV (GPS) RWY 15, Orig-C, CANCELED

Pinecreek, MN, 48Y, RNAV (GPS) RWY 33, Orig-C, CANCELED

Pinecreek, MN, 48Y, Takeoff Minimums and Obstacle DP, Orig, CANCELED

Red Wing, MN, RGK, RNAV (GPS) RWY 27, Amdt 3

Warrensburg, MO, RCM, RNAV (GPS) RWY 1, Amdt 1B

Warrensburg, MO, RCM, RNAV (GPS) RWY 19, Amdt 1B

Jackson, MS, JAN, ILS OR LOC RWY 16L, ILS RWY 16L (SA CAT I), ILS RWY 16L (CAT II), ILS RWY 16L (CAT III), Amdt 9

Jackson, MS, JAN, ILS OR LOC RWY 34L, Amdt 7

Kenansville, NC, DPL, Takeoff Minimums and Obstacle DP, Amdt 1A

Salisbury, NC, RUQ, RNAV (GPS) RWY 2, Amdt 2A

Ashley, ND, ASY, RNAV (GPS) RWY 15, Orig

Ashley, ND, ASY, RNAV (GPS) RWY 33, Orig

Ashley, ND, ASY, Takeoff Minimums and Obstacle DP, Orig

Grand Forks, ND, GFK, ILS OR LOC RWY 35L, Amdt 12E

Grand Forks, ND, GFK, RNAV (GPS) RWY 17L, Orig

Grand Forks, ND, GFK, RNAV (GPS) RWY 35R, Orig

Mohall, ND, HBC, RNAV (GPS) RWY 31, Amdt 1

Alma, NE, 4D9, Takeoff Minimums and Obstacle DP, Orig-A

Ogallala, NE, OGA, Takeoff Minimums and Obstacle DP, Amdt 5A

Las Cruces, NM, LRU, Takeoff Minimums and Obstacle DP, Amdt 3

Ely, NV, ELY, VOR-C, Amdt 2B

Buffalo, NY, BUF, Takeoff Minimums and Obstacle DP, Amdt 6A

New York, NY, JFK, RNAV (RNP) Z RWY 4L, Amdt 2A, CANCELED

New York, NY, JFK, RNAV (RNP) Z RWY 4R, Amdt 1A, CANCELED

Westhampton Beach, NY, FOK, ILS OR LOC RWY 24, Amdt 12

Westhampton Beach, NY, FOK, RNAV (GPS) RWY 6, Amdt 3

Westhampton Beach, NY, FOK, RNAV (GPS) RWY 24, Amdt 3

Cincinnati, OH, LUK, RNAV (GPS) RWY 25, Amdt 1D

Delaware, OH, DLZ, Takeoff Minimums and Obstacle DP, Amdt 2

Oxford, OH, OXD, Takeoff Minimums and Obstacle DP, Amdt 2A

Washington Court House, OH, I23, RNAV (GPS) RWY 5, Orig

Waverly, OH, EOP, RNAV (GPS) RWY 7, Amdt 3

Waverly, OH, EOP, RNAV (GPS) RWY 25, Amdt 2

Waverly, OH, EOP, Takeoff Minimums and Obstacle DP, Amdt 2

Muskogee, OK, MKO, Takeoff Minimums and Obstacle DP, Orig-B

Philadelphia, PA, PHL, ILS V RWY 9R (CONVERGING), Amdt 7

Philadelphia, PA, PHL, ILS V RWY 17 (CONVERGING), Amdt 8

Philadelphia, PA, PHL, ILS Z OR LOC RWY 17, Amdt 9

Dillon, SC, DLC, RNAV (GPS)-A, Orig

Dillon, SC, DLC, VOR/DME OR GPS RWY 7, Amdt 5A, CANCELED

Mitchell, SD, MHE, VOR RWY 13, Amdt 11B

Dyersburg, TN, DYR, RNAV (GPS) RWY 22, Amdt 1D

Pulaski, TN, GZS, RNAV (GPS) RWY 16, Amdt 3

Pulaski, TN, GZS, RNAV (GPS) RWY 34, Amdt 2C

Pulaski, TN, GZS, VOR RWY 34, Amdt 3A

Arlington, TX, GKY, RNAV (GPS) RWY 16, Amdt 1

Llano, TX, AQO, Takeoff Minimums and Obstacle DP, Orig-A

Waco, TX, ACT, Takeoff Minimums and Obstacle DP, Orig-A

Escalante, UT, 1L7, HASSL TWO, Graphic DP

Escalante, UT, 1L7, RNAV (GPS) RWY 31, Amdt 1

Bridgewater, VA, VBW, RNAV (GPS) RWY 33, Amdt 2

Bridgewater, VA, KVBW, Takeoff Minimums and Obstacle DP, Amdt 3

Orange, VA, OMH, RNAV (GPS) RWY 26, Amdt 1

Springfield, VT, VSF, LOC RWY 5, Amdt 5A

Springfield, VT, VSF, RNAV (GPS) RWY 5, Amdt 1A

Juneau, WI, UNU, RNAV (GPS) RWY 8, Amdt 1

Juneau, WI, UNU, RNAV (GPS) RWY 26, Amdt 1

Marshfield, WI, MFI, Takeoff Minimums and Obstacle DP, Orig-A

Reedsburg, WI, C35, Takeoff Minimums and Obstacle DP, Amdt 3

Morgantown, WV, MGW, RNAV (GPS) RWY 36, Amdt 3

Pine Bluffs, WY, 82V, RNAV (GPS) RWY 8, Orig

Pine Bluffs, WY, 82V, RNAV (GPS) RWY 26, Orig

Pine Bluffs, WY, 82V, Takeoff Minimums and Obstacle DP, Orig

[FR Doc. 2025-09283 Filed 5-22-25; 8:45 am]

BILLING CODE 4910-13-P